DEPARTMENT OF AGRICULTURE

Rural Utilities Service

Announcement of Funding Availability and Solicitation of Applications

AGENCY: Rural Utilities Service, USDA.

ACTION: Notice of funding availability and solicitation of applications.

SUMMARY: USDA Rural Development administers rural utilities programs through the Rural Utilities Service. USDA Rural Development announces the Distance Learning and Telemedicine (DLT) Program grant application window for funding during fiscal year (FY) 2006. FY 2005 funding for the DLT grant program was approximately $29.4 million.

In addition to announcing an application window, the Agency announces the available funding, and the minimum and maximum amounts for DLT grants applicable for the fiscal year.

DATES: You may submit completed applications for grants on paper or electronically according to the following deadlines:

• Paper copies must be postmarked and mailed, shipped, or sent overnight no later than June 12, 2006 to be eligible for FY 2006 grant funding. Late or incomplete applications are not eligible for FY 2006 grant funding.

• Electronic copies must be received by June 12, 2006 to be eligible for FY 2006 grant funding. Late or incomplete applications are not eligible for FY 2006 grant funding.

ADDRESSES: You may obtain copies of the FY 2006 application guide and materials for the DLT grant program at the DLT Web site: http://www.usda.gov/rus/telecom/dlt/dlt.htm. You may also request the FY 2006 application guide and materials by contacting the DLT Program at (202) 720-0413.

Submit completed paper applications for grants to the Telecommunications Program, USDA Rural Development, United State Department of Agriculture, 1400 Independence Ave., SW., Room 2845, STOP 1550, Washington, DC 20250-1550. Applications should be marked “Attention: Director, Advanced Services Division.”

Submit electronic grant applications at http://www.grants.gov (Grants.gov), following the instructions you find on that Web site.

FOR FURTHER INFORMATION CONTACT: Orren E. Cameron, III, Director, Advanced Services Division, Telecommunications Program, USDA Rural Development, United States Department of Agriculture, telephone: (202) 720-0413, fax: (202) 720-1051.

SUPPLEMENTARY INFORMATION:

Overview

Federal Agency: Rural Utilities Service (RUS).

Funding Opportunity Title: Distance Learning and Telemedicine Grants.

Announcement Type: Initial announcement.

Catalog of Federal Domestic Assistance (CFDA) Number: 10.855.

Dates: You may submit completed applications for grants on paper or electronically according to the following deadlines:

• Paper copies must be postmarked and mailed, shipped, or sent overnight no later than June 12, 2006. to be eligible for FY 2006 grant funding. Late or incomplete applications are not eligible for FY 2006 grant funding.

• Electronic copies must be received by June 12, 2006 to be eligible for FY 2006 grant funding. Late or incomplete applications are not eligible for FY 2006 grant funding.

Items in Supplementary Information

I. Funding Opportunity: Brief introduction to the DLT program.

II. Minimum and Maximum Application Amounts: Projected Available Funding.

III. Eligibility Information: Who is eligible, what kinds of projects are eligible, what criteria determine basic eligibility.

IV. Application and Submission Information: Where to get application materials, what constitutes a completed application, how and where to submit applications, deadlines, items that are eligible.

V. Application Review Information: considerations and preferences, scoring criteria, review standards, selection information.

VI. Award Administration Information: award notice information, award recipient reporting requirements.

VII. Agency Contacts: Web, phone, fax, email, contact name.

I. Funding Opportunity

Distance learning and telemedicine grants are specifically designed to provide access to education, training and health care resources for people in rural America. The Distance Learning and Telemedicine (DLT) Program provides financial assistance to encourage and improve telemedicine services and distance learning services in rural areas through the use of telecommunications, computer networks, and related advanced technologies by students, teachers, medical professionals, and rural residents. The grants are awarded through a competitive process.

As in years past, the FY 2006 grant application guide has been changed to reflect recent changes in technology and application trends. Details of changes from the FY 2005 application guide are highlighted throughout this Notice and described in full in the FY 2006 application guide. The Agency strongly encourages all applicants to carefully review and exactly follow the FY 2006 application guide and sample materials when compiling a DLT grant application.

II. Maximum and Minimum Amount of Grant Applications; Projected Available Funding

Under 7 CFR 1703.124, the Administrator has determined the maximum amount of an application for a grant in FY 2006 is $500,000 and the minimum amount of a grant is $50,000. The anticipated amount available to fund grant awards in FY 2006 is $20 million.

The USDA Rural Development will make awards and execute documents appropriate to the project prior to any advance of funds to successful applicants.

DLT grants cannot be renewed. Award documents specify the term of each award. Applications to extend existing projects are welcomed (grant applications must be submitted during the application window) and will be evaluated as new applications.

III. Eligibility Information

A. Who is eligible for grants? (See 7 CFR 1703.103.)

1. Only entities legally organized as one of the following are eligible for DLT grants:

a. An incorporated organization or partnership,

b. An Indian tribe or tribal organization, as defined in 25 U.S.C. 450b(b) and (c),

c. A state or local unit of government,

d. A consortium, as defined in 7 CFR 1703.102, or

e. Other legal entity, including a private corporation organized on a for-profit or not-for-profit basis.

2. Individuals are not eligible for DLT grants directly.

3. Electric and telecommunications borrowers under the Rural Electrification Act of 1936 (7 U.S.C. 950aaa et seq.) are not eligible for grants.

B. What are the basic eligibility requirements for a project?

1. Required matching contributions: See 7 CFR 1703.125(g) and the FY 2006 application guide for information on required matching contributions.

a. Grant applicants must demonstrate matching contributions, in cash or in kind (new, non-depreciated items), of at least fifteen (15) percent of the total amount of financial assistance requested. Matching contributions must be used for eligible purposes of DLT grant assistance (see 7 CFR 1703.121, paragraphs IV.G.1.c and V.B.2.d of this Notice and the FY 2006 application guide).

b. Greater amounts of eligible matching contributions may increase an applicant's score (see 7 CFR 1703.126(b)(4), paragraph V.B.2.d of this notice, and the FY 2006 application guide).

c. Applications that do not provide evidence of the required fifteen percent match which helps determine eligibility will be declared ineligible and returned. See paragraphs IV.G.1.c and V.B.2.d of this Notice, and the FY 2006 application guide for specific information on documentation of matching contributions.

d. Applications that do not document all matching contributions are subject to budgetary adjustment by USDA Rural Development, which may culminate in rejection of an application as ineligible due to insufficient match.

2. The DLT grant program is designed to flow the benefits of distance learning and telemedicine to residents of rural America (see 7 CFR 1703.103(a)(2)). Therefore, in order to be eligible, applicants must:

a. Operate a rural community facility; or

b. Deliver distance learning or telemedicine services to entities that operate a rural community facility or to residents of rural areas, at rates calculated to ensure that the benefit of the financial assistance is passed through to such entities or to residents of rural areas.

3. Rurality.

a. All projects proposed for DLT grant assistance must meet a minimum rurality threshold, to ensure that benefits from the projects flow to rural residents. The minimum eligibility score is 20 points. Please see Section IV of this notice, 7 CFR 1703.126(a)(2), and the FY 2006 application guide for an explanation of the rurality scoring and eligibility criterion.

b. Each application must apply the following criteria to each of its end-user sites, and hubs that are also proposed as end-user sites, in order to determine a rurality score. The rurality score is the average of all end-user sites' rurality scores.

Criterion | Character | Population | DLT Points
Exceptionally Rural Area | Area not within a city, village or borough | ≤5000 | 45
Rural Area | Incorporated or unincorporated area | >5000 and ≤10,000 | 30
Mid-Rural Area | Incorporated or unincorporated area | >10,000 and ≤20,000 | 15
Urban Area | Incorporated or unincorporated area | >20,000 | 0

c. The rurality score is one of the competitive scoring criteria applied to grant applications.

4. Projects located in areas covered by the Coastal Barrier Resources Act (16 U.S.C. 3501 et seq.) are not eligible for grants from the DLT Program. Please see 7 CFR 1703.123(a)(11).

C. See Section IV of this Notice and the FY 2006 application guide for a discussion of the items that make up a complete application. You may also refer to 7 CFR 1703.125 for complete grant application items. The FY 2006 application guide provides specific, detailed instructions for each item that constitutes a complete application. The Agency strongly emphasizes the importance of including every required item (as explained in the FY 2006 application guide) and strongly encourages applicants to follow the instructions exactly, using the examples and illustrations in the FY 2006 application guide. Applications which do not include all items that determine project eligibility and applicant eligibility by the application deadline will be returned as ineligible. Applications that do not include all items necessary for scoring will be scored as is. Please see the FY 2006 application guide for a full discussion of each required item and for samples and illustrations.

IV. Application and Submission Information

A. Where to get application information. FY 2006 application guides, copies of necessary forms and samples, and the DLT Program regulation are available from these sources:

1. The Internet: http://www.usda.gov/rus/telecom/dlt/dlt.htm.

2. The DLT Program for paper copies of these materials: (202) 720-0413.

B. What constitutes a completed application?

1. Detailed information and instructions on each item in the table in paragraph IV.B.6 of this Notice can be found in the sections of the DLT Program regulation listed in the table, and the FY 2006 DLT grant application guide. Applicants are strongly encouraged to read and apply both the regulation and the FY 2006 application guide. Applications that do not include all items that determine project eligibility and applicant eligibility by the application deadline will be returned as ineligible. Applications that do not include all items necessary for scoring will be scored as is. Please see the FY 2006 application guide for a full discussion of each required item and for samples and illustrations.

a. When the table refers to a narrative, it means a written statement, description or other written material prepared by the applicant, for which no form exists. USDA Rural Development recognizes that each project is unique and requests narratives to allow applicants to fully explain their request for financial assistance.

b. When documentation is requested, it means letters, certifications, legal documents or other third-party documentation that provide evidence that the applicant meets the listed requirement. For example, to confirm Enterprise Zone (EZ) designations, applicants use various types of documents, such as letters from appropriate government bodies and copies of appropriate USDA Web pages. Leveraging documentation sometimes includes letters of commitment from other funding sources, or other documents specifying in-kind donations. Evidence of legal existence is sometimes proven by applicants who submit articles of incorporation. None of the foregoing examples is intended to limit the types of documentation that may be submitted to fulfill a requirement. The DLT Program regulations and the FY 2006 application guide provide specific guidance on each of the items in the table.

2. The FY 2006 DLT application guide and ancillary materials provide all necessary forms and worksheets.

3. While the table in paragraph IV.B.6 of this Notice includes all items of a complete application, USDA Rural Development may ask for additional or clarifying information if the submitted items do not fully address a criterion or other provision. USDA Rural Development will communicate with applicants if the need for additional information arises. Applications which do not include all items that determine project eligibility and applicant eligibility by the application deadline will be returned as ineligible. Applications that do not include all items necessary for scoring will be scored as is. Please see the FY 2006 application guide for a full discussion of each required item and for samples and illustrations.

4. Submit the required application items in the order provided in the FY 2006 application guide. The FY 2006 application guide specifies the format and order of all required items. Applications that are not assembled and tabbed in the order specified delay the review process. Given the high volume of Program interest, incorrectly assembled applications will be returned as ineligible.

5. DUNS Number. As required by the OMB, all applicants for grants must supply a Dun and Bradstreet Data Universal Numbering System (DUNS) number when applying. The Standard Form 424 (SF-424) contains a field for you to use when supplying your DUNS number. Obtaining a DUNS number costs nothing and requires a short telephone call to Dun and Bradstreet. Please see http://www.grants.gov/RequestaDUNS for more information on how to obtain a DUNS number or how to verify your organization's number.

6. Table of Required Elements of a Completed Grant Application.

Application item (7 CFR 1703.125 and CFR 1703.126) | Notes (see the FY 2006 application guide for full instructions)
SF-424 (Application for Federal Assistance form) | Completely filled out, including the required detailed listing of all project sites. Application will be ineligible without this information.
Executive Summary | Narrative.
Rural Calculation Table | Recommend using the Agency worksheet. Application will be ineligible without this information.
National School Lunch Program Determination | Recommend using the Agency worksheet; must include source documentation.
EZ/EC or Champion Communities designation | Recommend using the Agency worksheet; and documentation.
Documented Need for Services/Benefits Derived from Services | Narrative and documentation, if necessary.
Innovativeness of the Project | Narrative and documentation.
Budget | Table or spreadsheet; recommend using the Agency format. Application will be ineligible without this information.
Leveraging Evidence and Funding Commitments from All Sources | Documentation. Application will be ineligible without this information.
Financial Information/Sustainability | Narrative. Application will be ineligible without this information.
System/Project Cost Effectiveness | Narrative and documentation.
Telecommunications System Plan | Narrative and documentation; maps or diagrams. Application will be ineligible without this information.
Proposed Scope of Work | Narrative or other appropriate format. Application will be ineligible without this information.
Statement of Experience | Narrative 3-page, single-spaced limit.
Consultation with the USDA State Director, Rural Development | Documentation.
Application conforms with State Strategic Plan per USDA State Director, Rural Development, (if plan exists) | Documentation.
Equal Opportunity and Nondiscrimination | Recommend using the Agency sample form.
Architectural Barriers | Recommend using the Agency sample form.
Flood Hazard Area Precautions | Recommend using the Agency sample form.
Uniform Relocation Assistance and Real Property Acquisition Policies Act of 1970 | Recommend using the Agency sample form.
Drug-Free Workplace | Recommend using the Agency sample form.
Debarment, Suspension, and Other Responsibility Matters—Primary Covered Transactions | Recommend using the Agency sample form.
Lobbying for Contracts, Grants, Loans, and Cooperative Agreements | Recommend using the Agency sample form.
Nonduplication of Services | Recommend using the Agency sample form. Application will be ineligible without this information.
Environmental Impact/Historic Preservation Certification | Recommend using the Agency sample form.
Evidence of Legal Authority to Contract with the Government | Documentation. Application will be ineligible without this information.
Evidence of Legal Existence | Documentation. Application will be ineligible without this information.

C. How many copies of an application are required?

1. Applications submitted on paper.

a. Submit the original application and two (2) copies to USDA Rural Development.

b. Submit one (1) additional copy to the State government single point of contact (SPOC) (if one has been designated) at the same time as you submit the application to the Agency. See http://www.whitehouse.gov/omb/grants/spoc.html for an updated listing of State government single points of contact.

2. Electronically submitted applications.

a. The additional paper copies specified in 7 CFR 1703.128(c) and 7 CFR 1703.136(b) are not necessary if you submit the application electronically through Grants.gov.

b. Submit one (1) copy to the State government single point of contact (if one has been designated) at the same time as you submit the application to the Agency. See http://www.whitehouse.gov/omb/grants/spoc.html for an updated listing of State government single points of contact.

D. How and where to submit an application. Grant applications may be submitted on paper or electronically.

1. Submitting applications on paper.

a. Address paper applications for grants to the Telecommunications Program, USDA Rural Development, United States Department of Agriculture, 1400 Independence Ave., SW., Room 2845, STOP 1550, Washington, DC 20250-1550. Applications should be marked “Attention: Director, Advanced Services Division.”

b. Paper applications must show proof of mailing or shipping by the deadline consisting of one of the following:

(i) A legibly dated U.S. Postal Service (USPS) postmark;

(ii) A legible mail receipt with the date of mailing stamped by the USPS; or

(iii) A dated shipping label, invoice, or receipt from a commercial carrier.

c. Due to screening procedures at the Department of Agriculture, packages arriving via regular mail through the USPS are irradiated, which can damage the contents and delay delivery to the DLT Program. USDA Rural Development encourages applicants to consider the impact of this procedure in selecting their application delivery method.

2. Electronically submitted applications.

a. Applications will not be accepted via fax or electronic mail.

b. Electronic applications for grants will be accepted if submitted through the Federal government's Grants.gov initiative at http://www.grants.gov.

c. How to use Grants.gov.

(i) Grants.gov contains full instructions on all required passwords, credentialing and software.

(ii) Central Contractor Registry. Submitting an application through Grants.gov requires that you list your organization in the Central Contractor Registry (CCR). Setting up a CCR listing takes up to five business days, so the Agency strongly recommends that you obtain your organization's DUNS number and CCR listing well in advance of the deadline specified in this notice.

(iii) Credentialing and authorization of applicants. Grants.gov will also require some credentialing and online authentication procedures. These procedures may take several business days to complete, further emphasizing the need for early action by applicants to complete the sign-up, credentialing and authorization procedures at Grants.gov before you submit an application at that Web site.

(iv) Some or all of the CCR and Grants.gov registration, credentialing and authorizations require updates. If you have previously registered at Grants.gov to submit applications electronically, please ensure that your registration, credentialing and authorizations are up to date well in advance of the grant application deadline.

d. USDA Rural Development encourages applicants who wish to apply through Grants.gov to submit their applications in advance of the deadlines.

e. If a system problem occurs or you have technical difficulties with an electronic application, please use the customer support resources available at the Grants.gov Web site.

E. Deadlines.

1. Paper applications must be postmarked and mailed, shipped, or sent overnight no later than June 12, 2006 to be eligible for FY 2006 grant funding. Late or incomplete applications are not eligible for FY 2006 grant funding.

2. Electronic grant applications must be received by June 12, 2006 to be eligible for FY 2006 funding. Late or incomplete applications are not eligible for FY 2006 grant funding.

F. Intergovernmental Review. The DLT grant program is subject to Executive Order 12372, “Intergovernmental Review of Federal Programs.” As stated in paragraph IV.C of this Notice, a copy of a DLT grant application must be submitted to the State single point of contact if one has been designated. Please see http://www.whitehouse.gov/omb/grants/spoc.html to determine whether your state has a single point of contact.

G. Funding Restrictions.

1. Eligible purposes.

a. End-user sites may receive financial assistance; hub sites (rural or non-rural) may also receive financial assistance if they are necessary to provide DLT services to end-user sites. Please see 7 CFR 1703.101(h).

b. To fulfill the policy goals laid out for the DLT Program in 7 CFR 1703.101, the following table lists purposes for financial assistance and whether each purpose is generally considered to be eligible for the assistance. Please consult the FY 2006 application guide and the regulations (7 CFR 1703.102 for definitions, in combination with the portions of the regulation cited in the table) for detailed requirements for the items in the table. USDA Rural Development strongly recommends that applicants exclude ineligible items from the grant and match portions of their project budgets. However, some items ineligible for funding or matching contributions may be vital to the project. USDA Rural Development encourages applicants to document those costs in the application's budget. Please see the FY 2006 application guide for a recommended budget format, and detailed budget compilation instructions.

Item | Eligible? (7 CFR 1703.121 and 7 CFR 1703.123)
Lease or purchase of eligible DLT equipment and facilities | Yes—equipment only.
Acquire instructional programming | Yes.
Technical assistance, develop instructional programming, engineering or environmental studies | Yes, not to exceed 10% of the grant.
Medical or education equipment or facilities necessary to the project | No.
Vehicles using distance learning or telemedicine technology to deliver services | No.
Teacher-student links located at the same facility | No.
Links between medical professionals located at the same facility | No.
Site development or building alteration | No.
Land or building purchase | No.
Building construction | No.
Acquiring telecommunications transmission facilities | No.
Salaries, wages, benefits for medical or educational personnel | No.
Salaries/administrative expenses of applicant or project | No.
Recurring project costs or operating expenses | No. Equipment leases are eligible. Telecommunications connection charges are not eligible.
Equipment to be owned by the LEC or other telecommunications service provider, if the provider is the applicant | Yes.
Duplicate distance learning or telemedicine services | No.
Any project that, for its success, depends on additional DLT financial assistance or other financial assistance that is not assured | No.
Application preparation costs | No.
Other project costs not covered in regulation | No.
Costs for and facilities providing distance learning broadcasting | No.
Reimburse applicant or others for costs incurred prior to the Agency's receipt of completed application | No.

c. Discounts. The DLT Program regulation has long stated that manufacturers' and service providers' discounts are not eligible matches. The Agency will not consider as eligible any proposed match from a vendor, manufacturer, or service provider whose products or services will be used in the DLT project as described in the application. In recent years, the Agency has noted a trend of vendors, manufacturers and other service providers offering their own products and services as in-kind matches for a project when their products or services will also be purchased with either grant or cash match funds for that project. Such activity is a discount and is therefore not an eligible match. Similarly, if a vendor, manufacturer or other service provider proposes a cash match (or any in-kind match) when their products or services will be purchased with grant or match funds, such activity is a discount and is not an eligible match. The Agency actively discourages such matching proposals and will adjust budgets as necessary to remove any such matches, which may reduce an application's score or result in the application's ineligibility due to insufficient match.

2. Eligible Equipment and Facilities. Please see 7 CFR 1703.102 for definitions of eligible equipment, eligible facilities and telecommunications transmission facilities as used in the table above. In addition, the FY 2006 application guide supplies a wealth of information and examples of eligible and ineligible items.

3. Apportioning budget items. Many DLT applications propose to use items for a blend of specific DLT project purposes and other purposes. For the first time, USDA Rural Development asks that applicants attribute the proportion (by percentage of use) of the costs of each item to the project's DLT purpose or to other purposes. See the FY 2006 application guide for detailed information on how to apportion use and apportioning illustrations.

V. Application Review Information

A. Special considerations or preferences. American Samoa, Guam, Virgin Islands, and Northern Mariana Islands applications are exempt from the matching requirement up to a match amount of $200,000 (see 48 U.S.C. 1469a; 91 Stat. 1164).

B. Criteria. 1. Grant applications are scored competitively and subject to the criteria listed below.

2. Grant application scoring criteria (total possible points: 235) See 7 CFR 1703.125 for the items that will be reviewed during scoring, and 7 CFR 1703.126 for scoring criteria.

a. Need for services proposed in the application, and the benefits that will be derived if the application receives a grant (up to 55 points).

(i) Up to 45 of the 55 possible points under this criterion are available to all applicants. Points are awarded based on the required narrative crafted by the applicant. USDA Rural Development encourages applicants to carefully read the cited portions of the Program regulation and the FY 2006 application guide for full discussions of all of the facets of this criterion.

(ii) Up to 10 of the possible 55 possible points under this criterion can be earned only by applications whose overall National School Lunch Program (NSLP) eligibility is less than 50%.

(iii) Applicants whose projects demonstrate an overall NSLP eligibility of less than 50% must include an affirmative request for consideration of the possible 10 points, and documentation of reasons why the NSLP eligibility percentage does not fully demonstrate the economic need of the proposed project areas in their applications.

b. Rurality of the proposed service area (up to 45 points).

c. Percentage of students eligible for the NSLP in the proposed service area (objectively demonstrates economic need of the area) (up to 35 points).

d. Leveraging resources above the required matching level (up to 35 points). Please see paragraph III.B of this Notice for a brief explanation of matching contributions.

e. Level of innovation demonstrated by the project (up to 15 points).

f. System cost-effectiveness (up to 35 points).

g. Project overlap with Empowerment Zone, Enterprise Communities or Champion Communities designations (up to 15 points).

C. Review standards. 1. In addition to the scoring criteria that rank applications against each other, the Agency evaluates grant applications for possible awards on the following items, according to 7 CFR 1703.127:

a. Financial feasibility.

b. Technical considerations. If the application contains flaws that would prevent the successful implementation, operation or sustainability of a project, the Agency will not award a grant.

c. Other aspects of proposals that contain inadequacies that would undermine the ability of the project to comply with the policies of the DLT Program.

2. Applications which do not include all items that determine project eligibility and applicant eligibility by the application deadline will be returned as ineligible. Applications that do not include all items necessary for scoring will be scored as is. Please see the FY 2006 application guide for a full discussion of each required item and for samples and illustrations.

3. If an application contains all items necessary to determining eligibility, but does not contain all items that affect its score, the application will be scored based on the information submitted by the deadline. The Agency will not request missing items that affect the application's score.

4. The FY 2006 application guide specifies the format and order of all required items. Applications that are not assembled and tabbed in the order specified delay the review process. Given the high volume of Program interest, incorrectly assembled applications will be returned as ineligible.

5. Most DLT projects contain numerous project sites. USDA Rural Development requires that site information be consistent throughout an application. Sites must be referred to by the same designation throughout all parts of an application. USDA Rural Development has provided a site worksheet that requests the necessary information, and can be used as a guide by applicants. USDA Rural Development strongly recommends that applicants complete the site worksheet, listing all requested information for each site. Applications without consistent site information will be returned as ineligible.

D. Selection Process. Grant applications are ranked by final score, and by application purpose (education or medical). USDA Rural Development selects applications based on those rankings, subject to the availability of funds. USDA Rural Development may allocate grant awards between medical and educational purposes, but is not required to do so. In addition, USDA Rural Development has the authority to limit the number of applications selected in any one State during a fiscal year. See 7 CFR 1703.127.

VI. Award Administration Information

A. Award Notices. USDA Rural Development generally notifies applicants whose projects are selected for awards by faxing an award letter. USDA Rural Development follows the award letter with a grant agreement that contains all the terms and conditions for the grant. USDA Rural Development recognizes that each funded project is unique, and therefore may attach conditions to different projects' award documents. An applicant must execute and return the grant agreement, accompanied by any additional items required by the grant agreement, within 120 days of the selection date.

B. Administrative and National Policy Requirements: The items listed in Section IV of this notice, and the DLT Program regulation, FY 2006 application guide and accompanying materials implement the appropriate administrative and national policy requirements.

C. Reporting. 1. Performance reporting. All recipients of DLT financial assistance must provide annual performance activity reports to USDA Rural Development until the project is complete and the funds are expended. A final performance report is also required; the final report may serve as the last annual report. The final report must include an evaluation of the success of the project in meeting DLT Program objectives. See 7 CFR 1703.107.

2. Financial reporting. All recipients of DLT financial assistance must provide an annual audit, beginning with the first year a portion of the financial assistance is expended. Audits are governed by United States Department of Agriculture audit regulations. Please see 7 CFR 1703.108.

VII. Agency Contacts

A. Web site: http://www.usda.gov/rus/telecom/dlt/dlt.htm. The DLT Web site maintains up-to-date resources and contact information for DLT programs.

B. Phone: 202-720-0413.

C. Fax: 202-720-1051.

D. E-mail: dltinfo@usda.gov.

E. Main point of contact: Orren E. Cameron, III, Director, Advanced Services Division, Telecommunications Program, USDA Rural Development, United States Department of Agriculture.

Dated: March 31, 2006.
James M. Andrew,
Administrator, Rural Utilities Service.

[FR Doc. E6-5224 Filed 4-10-06; 8:45 am]

BILLING CODE 3410-15-P